DEPARTMENT OF THE INTERIOR

Bureau of Land Management

[SDM 44591]

Public Land Order No. 7477; Extension of Public Land Order No. 5793; South Dakota

AGENCY: Bureau of Land Management, Interior.

ACTION: Public land order.

SUMMARY: This order extends Public Land Order No. 5793 for an additional 20-year term. This extension is necessary to continue the protection of the Forest Service Terry Peak Electronic Site.

EFFECTIVE DATE: December 24, 2000.

FOR FURTHER INFORMATION CONTACT: Sandra Ward, BLM Montana State Office, P.O. Box 36800, Billings, Montana 59107, 406-896-5052.

By virtue of the authority vested in the Secretary of the Interior by Section 204 of the Federal Land Policy and Management Act of 1976, 43 U.S.C. 1714 (1994), it is ordered as follows:

1. Public Land Order No. 5793, which withdrew National Forest System land for protection of the Terry Peak Electronic Site, is hereby extended for an additional 20-year term following its date of expiration.

2. This withdrawal will expire 20 years from the effective date of this order, unless, as a result of a review conducted prior to the expiration date pursuant to Section 204(f) of the Federal Land Policy and Management Act of 1976, 43 U.S.C. 1714(f) (1994), the Secretary determines that the withdrawal shall be extended.

Dated: December 19, 2000.
Sylvia V. Baca,
Assistant Secretary of the Interior.

[FR Doc. 00-32835 Filed 12-21-00; 8:45 am]

BILLING CODE 3410-11-P